FEDERAL RESERVE SYSTEM

Agency Information Collection Activities: Announcement of Board Approval Under Delegated Authority and Submission to OMB

AGENCY: Board of Governors of the Federal Reserve System.

SUMMARY: The Board of Governors of the Federal Reserve System (Board) is adopting a proposal to extend for three years, with revision, the Savings and Loan Holding Company Registration Statement (FR LL-10(b); OMB No. 7100-0337).

FOR FURTHER INFORMATION CONTACT: Federal Reserve Board Clearance Officer—Nuha Elmaghrabi—Office of the Chief Data Officer, Board of Governors of the Federal Reserve System, nuha.elmaghrabi@frb.gov, (202) 452-3884.

Office of Management and Budget (OMB) Desk Officer for the Federal Reserve Board, Office of Information and Regulatory Affairs, Office of Management and Budget, New Executive Office Building, Room 10235, 725 17th Street NW, Washington, DC 20503, or by fax to (202) 395-6974.

SUPPLEMENTARY INFORMATION: On June 15, 1984, OMB delegated to the Board authority under the Paperwork Reduction Act (PRA) to approve and assign OMB control numbers to collections of information conducted or sponsored by the Board. Board-approved collections of information are incorporated into the official OMB inventory of currently approved collections of information. The OMB inventory, as well as copies of the PRA Submission, supporting statements (which contain more detailed information about the information collections and burden estimates than this notice), and approved collection of information instrument(s) are available at https://www.reginfo.gov/public/do/PRAMain. These documents are also available on the Federal Reserve Board's public website at https://www.federalreserve.gov/apps/reportingforms/home/review or may be requested from the agency clearance officer, whose name appears above.

Final Approval Under OMB Delegated Authority of the Extension for Three Years, With Revision, of the Following Information Collection

Collection title: Savings and Loan Holding Company Registration Statement.

Collection identifier: FR LL-10(b).

OMB control number: 7100-0337.

Effective Date: The revisions are applicable as of May 1, 2023.

General description of collection: The FR LL-10(b) requests information from registering Savings and Loan Holding Companies (SLHCs) on the financial condition, ownership, operations, management, and intercompany relationships of the SLHC and its subsidiaries. Additionally, respondents must include information concerning the transaction that resulted in the respondent becoming an SLHC, a description of the SLHC's business, and a description of any changes related to the financial condition, ownership, operations, intercompany relationships, and management of the SLHC and its subsidiaries since the registrant's application to become an SLHC was approved. The principal executive or principal financial officer of the registering SLHC must certify that the information contained in the submission has been carefully reviewed and is true, correct, and complete.

Frequency: Event-generated.

Respondents: SLHCs.

Total estimated number of respondents: 7.

Total estimated change in burden hours: 1.

Total estimated annual burden hours: 51.¹

¹ More detailed information regarding this collection, including more detailed burden estimates, can be found in the OMB Supporting Statement posted at https://www.federalreserve.gov/apps/reportingforms/home/review. On the page displayed at the link, you can find the OMB Supporting Statement by referencing the collection identifier, FR LL-10(b).

Current actions: On November 4, 2022, the Board published a notice in the Federal Register (87 FR 66699) requesting public comment for 60 days on the extension, with revision, of the FR LL-10(b). The Board proposed to revise the FR LL-10(b) by clearing the deregistration process described in Supervision and Regulation Letter 11-12; adding additional language clarifying that a respondent must retain a copy of the signed form at least three years, unless it ceases to be an SLHC before then; adding additional language on the Board's procedures for requesting confidential treatment, including the relevant regulatory citation; clarifying that the background information requested includes formations of savings associations or SLHCs; clarifying that the requested information includes formations of SLHCs and related subsidiaries; and clarifying that the documentation requirements include formations of savings associations and SLHCs, and that responses should be limited to changes since submitting the SLHC application. The comment period for this notice expired on January 3, 2023. The Board did not receive any comments. The revisions will be implemented as proposed.

Board of Governors of the Federal Reserve System, March 24, 2023.
Michele Taylor Fennell,
Deputy Associate Secretary of the Board.

[FR Doc. 2023-06553 Filed 3-29-23; 8:45 am]

BILLING CODE 6210-01-P